DEPARTMENT OF THE INTERIOR

National Park Service

[NPS-WASO-NAGPRA-21370]; [PPWOCRADN0-PCU00RP14.R50000]

Notice of Inventory Completion: Federal Bureau of Investigation, Indianapolis Field Office, Indianapolis, IN

AGENCY: National Park Service, Interior.

ACTION: Notice.

SUMMARY: The Federal Bureau of Investigation (FBI) has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Federal Bureau of Investigation. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Federal Bureau of Investigation at the address in this notice by August 15, 2016.

ADDRESSES: Federal Bureau of Investigation, Indianapolis Field Office, Attn: Special Agent Timothy Carpenter, 8825 Nelson B. Klein Parkway, Indianapolis, IN 46250, telephone (317) 845-2413, email artifacts@ic.fbi.gov.

SUPPLEMENTARY INFORMATION: Notice is hereby given in accordance with the Native American Graves Protection and Repatriation Act (NAGPRA), 25 U.S.C. 3003, of the completion of an inventory of human remains and associated funerary objects under the control of the Federal Bureau of Investigation (FBI), Indianapolis Field Office. The human remains and associated funerary objects were removed from Lyman County, SD.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the FBI in consultation with representatives of the Crow Creek Sioux Tribe of the Crow Creek Reservation, South Dakota; the Lower Brule Sioux Tribe of the Lower Brule Reservation, South Dakota; the Rosebud Sioux Tribe of the Rosebud Indian Reservation, South Dakota; and the Three Affiliated Tribes of the Fort Berthold Reservation, North Dakota, hereafter referred to as “The Tribes”.

History and Description of the Remains

In July 1961, human remains representing, at minimum, 9 individuals were removed from at or near site 39LM0047 in Lyman County, SD. The human remains were later transported to Indiana, where they remained as part of a private collection of Native American antiquities and cultural heritage. In April 2014, the human remains were seized by the FBI as part of a criminal investigation.

The human remains represent one adolescent male, one adolescent female, two adolescents of unknown sex, two adults of unknown sex, one female aged approximately 75 years at time of death, and two individuals of unknown age or sex. No known individuals were identified. The 21 associated funerary objects are 2 lots of glass trade beads; 2 pipestone/Catalinite pipes; 1 unidentified metal stake or nail; 1 metal knife with wooden handle; 1 black metal pendant; 1 drilled metal pendant; 2 stone projectile points; 1 ceramic ink well; 1 ground stone (possibly a pestle); and 1 hammer stone.

Site 39LM0047 is located at the convergence of the White River and the Missouri River. The area is currently under the control, and managed by, the South Dakota Game, Fish and Parks (SDGFD), pursuant to a 1999 transfer of property by the United States Army Corps of Engineers (USACE). However, at the time of the excavation of these human remains and associated funerary objects, the land at the site in question was under the control, and managed by, the USACE.

Site analysis, along with oral history from local tribal nations, indicates that this area was historically inhabited by several populations. Archeologists believe that Siouan-speaking people ancestral to the Mandan lived in this locale from at least A.D. 800 until they were displaced by Caddoan-speaking ancestors of the Arikara. Ancestral Arikara remained in the area until the mid-to-late 1800s, when they moved upstream to join the Mandan and Hidatsa as part of the Three Affiliated tribes. Siouan-speaking peoples ancestral to the Dakota, Lakota, and Nakota hunted across the Plains and often traded with the ancestral Arikara, Mandan, and Hidatsa well ahead of European contact and into the historic period. This particular locale was dominated by the Dakota and Lakota by the early 1700s.

Based upon historical record, site analysis, evidence obtained through criminal investigation, osteological analysis, and tribal consultation, the FBI believes that there is a relationship of shared group identity that can be reasonably traced between the Native American human remains, and associated funerary objects, and The Tribes.

Determinations Made by the Federal Bureau of Investigation

Officials of the FBI have determined that:

• Pursuant to 25 U.S.C. 3001(9), the human remains described in this notice represent the physical remains of 9 individuals of Native American ancestry.

• Pursuant to 25 U.S.C. 3001(3)(A), the 21 objects described in this notice are reasonably believed to have been placed with or near individual human remains at the time of death or later as part of a death rite or ceremony.

• Pursuant to 25 U.S.C. 3001(2), there is a relationship of shared group identity that can be reasonably traced between the Native American human remains and associated funerary objects and The Tribes.

Additional Requestors and Disposition

Lineal descendants or representatives of any Indian tribe or Native Hawaiian organization not identified in this notice who wish to request transfer of control of these human remains and associated funerary objects should submit a written request with information in support of the request to Federal Bureau of Investigation, Indianapolis Field Office, Attn: Special Agent Timothy Carpenter, 8825 Nelson B. Klein Parkway, Indianapolis, IN 46250, telephone (317) 845-2413, email artifacts@ic.fbi.gov, by August 15, 2016. After that date, if no additional requestors have come forward, transfer of control of the human remains and associated funerary objects to The Tribes may proceed.

The FBI is responsible for notifying The Tribes that this notice has been published.

Dated: July 7, 2016.
Melanie O'Brien,
Manager, National NAGPRA Program.

[FR Doc. 2016-16608 Filed 7-13-16; 8:45 am]

BILLING CODE 4312-50-P